FEDERAL RETIREMENT THRIFT INVESTMENT BOARD

Sunshine Act; Notice of Meeting

Correction

In notice document 08-698 appearing on page 8317 in the issue of Wednesday, February 13, 2008 make the following correction:

In the third column, TIME AND DATE should contain the information “9 a.m. (Eastern Time), February 19, 2008.”.

[FR Doc. C8-00698 Filed 2-14-08; 8:45 am]

BILLING CODE 1505-01-D